DEPARTMENT OF COMMERCE

National Oceanic and Atmospheric Administration

50 CFR Part 300

[I.D. 101603B]

Fraser River Sockeye and Pink Salmon Fisheries; Inseason Orders

AGENCY: National Marine Fisheries Service (NMFS), National Oceanic and Atmospheric Administration (NOAA), Commerce.

ACTION: Inseason orders.

SUMMARY: NMFS publishes the Fraser River salmon inseason orders regulating salmon fisheries in U.S. waters. The orders were issued by the Fraser River Panel (Panel) of the Pacific Salmon Commission (Commission) and subsequently approved and issued by NMFS during the 2003 sockeye and pink salmon fisheries within the U.S. Fraser River Panel Area. These orders established fishing times, areas, and types of gear for U.S. treaty Indian and all-citizen fisheries during the period the Commission exercised jurisdiction over these fisheries. Due to the frequency with which inseason orders are issued, publication of individual orders is impracticable. The 2003 orders are therefore being published in this document to avoid fragmentation.

DATES: Each of the following inseason actions was effective upon announcement on telephone hotline numbers as specified at 50 CFR 300.97(b)(1); those dates and times are listed herein. Comments will be accepted through November 10, 2003.

ADDRESSES: Comments may be mailed to D. Robert Lohn, Regional Administrator, Northwest Region, NMFS, 7600 Sand Point Way N.E., BIN C15700-Bldg. 1, Seattle, WA 98115-0070. Information relevant to this document is available for public review during business hours at the office of the Regional Administrator, Northwest Region, NMFS.

FOR FURTHER INFORMATION CONTACT: David Cantillon, (206) 526-4140.

SUPPLEMENTARY INFORMATION: The treaty between the Government of the United States of America and the Government of Canada concerning Pacific Salmon was signed at Ottawa, Canada, on January 28, 1985, and subsequently was given effect in the United States by the Pacific Salmon Treaty Act (Act) at 16 U.S.C. 3631-3644.

Under authority of the Act, Federal regulations at 50 CFR Part 300 Subpart F provide a framework for implementation of certain regulations of the Commission and inseason orders of the Commission's Panel for U.S. sockeye and pink salmon fisheries in the Fraser River Panel Area.

The regulations close the U.S. portion of the Fraser River Panel Area to U.S. sockeye and pink salmon fishing unless opened by Panel regulation or by inseason regulations published by NMFS that give effect to Panel orders. During the fishing season, NMFS may issue regulations that establish fishing times and areas consistent with the Commission agreements and inseason orders of the Panel. Such orders must be consistent with domestic legal obligations. The Regional Administrator, Northwest Region, NMFS, issues the inseason orders. Official notification of these inseason actions of NMFS is provided by two telephone hotline numbers described at 50 CFR 300.97(b)(1). Inseason orders must be published in the Federal Register as soon as practicable after they are issued. Due to the frequency with which inseason orders are issued, publication of individual orders is impractical. Therefore, the 2003 orders are being published in this document to avoid fragmentation.

The following inseason orders were adopted by the Panel and issued for U.S. fisheries by NMFS during the 2003 fishing season. The times listed are local times, and the areas designated are Puget Sound Management and Catch Reporting Areas as defined in the Washington State Administrative Code at Chapter 220-22.

Order No. 2003-02: Issued 1 p.m., July 25, 2003.

Treaty Indian Fisheries

Areas 4B, 5, and 6C: Open to drift gill nets from 4 p.m., Friday, July 25, 2003, to 12 p.m. (noon), Wednesday, July 30, 2003.

Order No. 2003-02: Issued 2 p.m., July 29, 2003.

Treaty Indian Fisheries

Areas 4B, 5, and 6C: Extended to drift gill nets from 12 p.m. (noon)Wednesday, July 30 to 12 p.m. (noon), Saturday, August 2, 2003.

Areas 6, 7, and 7A: Open to net fishing from 11:00 a.m., Wednesday, July 30, 2003, until 11 a.m., Thursday, July 31, 2003.

All-Citizen Fisheries

Areas 7 and 7A Gillnet: Open to fishing from 12 p.m. (noon) until 11:59 p.m Thursday, July 31, 2003.

Areas 7 and 7A Purse Seine: Open to fishing from 7 a.m. until 7 p.m., Friday, August 1, 2003.

Areas 7 and 7A Reef Net: Open to fishing from 9:00 a.m. until 9 p.m., Thursday, July 31, 2003.

Order No. 2003-03: Issued 2 p.m., August 1, 2003.

Treaty Indian Fisheries

Areas 4B, 5, and 6C: Extended for drift gill nets from 12 p.m. (noon), Saturday, August 2, 2003, to 12 p.m. (noon), Wednesday, August 6, 2003.

Areas 6, 7, and 7A: Open to net fishing from 4 a.m., Monday, August 4, 2003 until 7:30 a.m., Wednesday, August 6, 2003.

All-Citizen Fisheries

Areas 7 and 7A Gill Net: Open from 8 a.m. until 11:59 p.m. on Wednesday, August 6 and from 8 a.m. until 11:59 p.m. on Friday, August 8, 2003.

Areas 7 and 7A Purse Seine: Open from 5 a.m. until 9 p.m. on Thursday, August 7, and from 5 a.m. until 9 p.m. on Friday, August 8, 2003.

Areas 7 and 7A Reef Net: Open from 5:00 a.m. until 9:00 p.m. on Saturday, August 2, and from 5 a.m. until 9 p.m. on Sunday, August 3, 2003.

Order No. 2003-04: Issued 4 p.m., August 4, 2003.

Treaty Indian Fisheries

Areas 4B, 5, and 6C: Extended for drift gill nets from 12 p.m. (noon), Wednesday, August 6, 2003, to 12 p.m. (noon), Saturday, August 9, 2003.

Order No. 2003-05; Issued 3:30 p.m., August 5, 2003.

All-Citizen Fisheries

Areas 7 and 7A Reef Net: Open from 5 a.m. until 9 p.m. on Thursday, August 7, 2003.

Order No. 2003-06: Issued 1 p.m., August 8, 2003.

Treaty Indian Fisheries

Areas 4B, 5, and 6C: Extended for drift gill nets from 12 p.m. (noon), Saturday, August 9, 2003 until 12 p.m. (noon), Wednesday, August 13, 2003.

Areas 6, 7, and 7A: Open to net fishing from 5 a.m., Saturday, August 9, 2003 until 7:30 a.m., Wednesday, August 13, 2003.

All-Citizen Fisheries

Areas 7 and 7A Reef Net: Open from 5 a.m. until 9 p.m. on Tuesday, August 12, 2003.

Order No. 2003-07: Issued 1 p.m., August 12, 2003.

Treaty Indian Fisheries

Areas 4B, 5, and 6C: Extended for drift gill nets from 12 p.m. (noon), Wednesday, August 13, 2003, until 12 p.m. (noon), Saturday, August 16, 2003.

Areas 6, 7, and 7A: Extended for net fishing from 7:30 a.m., Wednesday, August 13, 2003, until 5 a.m., Thursday, August 14, 2003. Open to net fishing from 5 a.m., Friday, August 15, 2003, until 5 a.m., Saturday, August 16, 2003.

All-Citizen Fisheries

Areas 7 and 7A Gill Net: Open from 8 a.m. until 11:59 p.m. on Thursday, August 14, 2003.

Areas 7 and 7A Purse Seine: Open from 5 a.m. until 9 p.m. on Thursday, August 14, 2003.

Areas 7 and 7A Reef Net: Open from 5 a.m. until 9 p.m. on Wednesday, August 13, 2003, and from 5 a.m. until 9 p.m. on Thursday, August 14, 2003.

Order No. 2003-08: Issued 3 p.m., August 15, 2003.

Treaty Indian Fisheries

Areas 4B, 5, and 6C: Extended for drift gill nets from 12 p.m. (noon), Saturday, August 16, 2003, until 12 p.m. (noon), Wednesday, August 20, 2003.

Areas 6, 7, and 7A: Open to net fishing from 5 a.m., Sunday, August 17, 2003, until 7:30 a.m., Tuesday, August 19, 2003.

All-Citizen Fisheries

Gill Net: Area 7A will be open from 8 a.m. until 11:59 p.m. on Saturday, August 16, 2003. Area 7 will be open from 6 p.m. until 11:59 p.m. on Saturday, August 16, 2003. Areas 7 and 7A will be open from 8 a.m. until 11:59 p.m. on Tuesday, August 19, 2003.

Purse Seine: Area 7A will be open from 5 a.m. until 9 p.m. on Saturday, August 16, 2003. Area 7 will be open from 10 a.m. until 6 p.m. on Saturday, August 16, 2003. Areas 7 and 7A will be open from 8 a.m. until 9 p.m. on Tuesday, August 19, 2003.

Reef Net: Areas 7 and 7A will be open from 5 a.m. until 9 p.m. on Tuesday, August 19, 2003

Order No. 2003-09: Issued 2 p.m., August 22, 2003.

All-Citizen Fisheries

Reef Net: Areas 7 and 7A will be open from 5 a.m. until 9 p.m. on Saturday, August 23, from 5 a.m. until 9 p.m. on Sunday, August 24, from 5 a.m. until 9 p.m. on Monday, August 25, from 5 a.m. until 9 p.m. on Tuesday, August 26, and from 5 a.m. until 9 p.m. on Wednesday, August 27, 2003. All sockeye salmon must be released.

Order No. 2003-10: Issued 1 p.m., August 26, 2003.

All-Citizen Fisheries

Reef Net: Areas 7 and 7A will be open from 5 a.m. until 9 p.m. on Thursday, August 28, from 5 a.m. until 9 p.m. on Friday, August 29, and from 5 a.m. until 9 p.m. on Saturday, August 30, 2003. All sockeye salmon must be released.

Order No. 2003-11: Issued 12:30 p.m., August 29, 2003.

Treaty Indian Fisheries

Areas 4B, 5, and 6C: Open for drift gill nets from 12 p.m. (noon), Tuesday, September 2, 2003, until 12 p.m. (noon), Friday, September 5, 2003.

Areas 6, 7, and 7A: Open for net fishing in that portion of Areas 6, 7, and 7A south and east of the East Point Line from 5 a.m., Thursday, September 4, 2003, until 9 p.m., Friday, September 5, 2003. The East Point Line is a line projected from the low water range marker in Boundary Bay on the International Boundary through the east tip of Point Roberts in the State of Washington to the East Point Light on Saturna Island in the Province of British Columbia, Canada. All sockeye salmon caught in purse seines must be released.

All-Citizen Fisheries

Areas 7 and 7A Purse Seine: Open in Areas 7 and 7A south and east of the East Point Line from 5 a.m. until 9 p.m. on Tuesday, September 2, and from 5 a.m. until 9 p.m. on Wednesday, September 3, 2003. The East Point Line is a line projected from the low water range marker in Boundary Bay on the International Boundary through the east tip of Point Roberts in the State of Washington to the East Point Light on Saturna Island in the Province of British Columbia, Canada. All sockeye salmon must be released.

Areas 7 and 7A Reef Net: Open in Areas 7 and 7A south and east of the East Point Line from 5 a.m. until 9 p.m. on Sunday, August 31, from 5 a.m. until 9 p.m. on Monday, September 1, from 5 a.m. until 9 p.m. on Tuesday, September 2, from 5 a.m. until 9 p.m. on Wednesday, September 3, from 5 a.m. until 9 p.m. on Thursday, September 4, from 5 a.m. until 9 p.m. on Friday, September 5, and from 5 a.m. until 9 p.m. on Saturday, September 6, 2003. The East Point Line is a line projected from the low water range marker in Boundary Bay on the International Boundary through the east tip of Point Roberts in the State of Washington to the East Point Light on Saturna Island in the Province of British Columbia, Canada. All sockeye salmon must be released.

Order No. 2003-12: Issued 12:01 p.m., September 5, 2003.

Areas 4B, 5, and 6C: Relinquish regulatory control effective Saturday, September 6, 2003.

Treaty Indian Fisheries

Areas 6, 7, and 7A: Open for net fishing in that portion of Areas 6, 7, and 7A south and east of the East Point Line from 5 a.m., Tuesday, September 9, 2003, until 9 p.m., Wednesday, September 10, 2003. The East Point Line is a line projected from the low water range marker in Boundary Bay on the International Boundary through the east tip of Point Roberts in the State of Washington to the East Point Light on Saturna Island in the Province of British Columbia, Canada. All sockeye salmon caught in purse seines must be released.

All-Citizen Fisheries

Areas 7 and 7A Purse Seine: Open in Areas 7 and 7A south and east of the East Point Line from 5 a.m. until 9 p.m. on Sunday, September 7, from 5 a.m. until 9 p.m. on Monday, September 8, and from 5:00 a.m. until 9 p.m. on Thursday, September 11, 2003. The East Point Line is a line projected from the low water range marker in Boundary Bay on the International Boundary through the east tip of Point Roberts in the State of Washington to the East Point Light on Saturna Island in the Province of British Columbia, Canada. All sockeye salmon must be released.

Areas 7 and 7A Reef Net: Open in Areas 7 and 7A south and east of the East Point Line from 5 a.m. until 9 p.m. on Sunday, September 7, from 5 a.m. until 9 p.m. on Monday, September 8, from 5 a.m. until 9 p.m. on Tuesday, September 9, from 5 a.m. until 9 p.m. on Wednesday, September 10, from 5 a.m. until 9 p.m. on Thursday, September 11, from 5 a.m. until 9 p.m. on Friday, September 12, and from 5 a.m. until 9 p.m. on Saturday, September 13, 2003. The East Point Line is a line projected from the low water range marker in Boundary Bay on the International Boundary through the east tip of Point Roberts in the State of Washington to the East Point Light on Saturna Island in the Province of British Columbia, Canada. All sockeye salmon must be released.

Order No. 2003-13: Issued 12:30 p.m., September 9, 2003.

Treaty Indian Fisheries

Areas 6, 7, and 7A: Open for net fishing in that portion of Areas 6, 7, and 7A south and east of the East Point Line from 5 a.m., Friday, September 12, 2003, until 9 p.m., Saturday, September 13, 2003. The East Point Line is a line projected from the low water range marker in Boundary Bay on the International Boundary through the east tip of Point Roberts in the State of Washington to the East Point Light on Saturna Island in the Province of British Columbia, Canada. All sockeye salmon caught in purse seines must be released.

Order No. 2003-14: Issued 12:30 p.m., September 12, 2003.

Treaty Indian Fisheries

Areas 6, 7, and 7A: Open for net fishing in that portion of Areas 6, 7, and 7A south and east of the East Point Line from 5 a.m., Friday, September 12 until 11:59 p.m., Friday, September 12, 2003. The East Point Line is a line projected from the low water range marker in Boundary Bay on the International Boundary through the east tip of Point Roberts in the State of Washington to the East Point Light on Saturna Island in the Province of British Columbia, Canada. All sockeye salmon caught in purse seines must be released.

Areas 6, 7, and 7A: Open for net fishing in that portion of Areas 6, 7, and 7A south and east of the Iwersen Dock Line from 12:01 a.m., Saturday, September 13 until 8:00 p.m. Friday, September 19, 2003. The Iwersen Dock Line is a line projected from the point where the Iwersen Dock was once located on Point Roberts in the State of Washington to the Georgina Point Light at the entrance to Active Pass in the Province of British Columbia, Canada. All sockeye salmon caught in purse seines must be released.

All-Citizen Fisheries

Areas 7 and 7A Purse Seine: Open in Areas 7 and 7A south and east of the Iwersen Dock Line from 6 a.m. until 8 p.m. on Sunday, September 14, from 6 a.m. until 8 p.m. on Monday, September 15, from 6 a.m. until 8 p.m. on Tuesday, September 16, from 6 a.m. until 8 p.m. on Wednesday, September 17, from 6 a.m. until 8 p.m. on Thursday, September 18, and from 6 a.m. until 8 p.m. on Friday, September 19, 2003. The Iwersen Dock Line is a line projected from the point where the Iwersen Dock was once located on Point Roberts in the State of Washington to the Georgina Point Light at the entrance to Active Pass in the Province of British Columbia, Canada. All sockeye salmon must be released.

Areas 7 and 7A Reef Net: Open in Areas 7 and 7A south and east of the East Point Line from 5 a.m. until 9 p.m. on Friday, September 12, 2003. The East Point Line is a line projected from the low water range marker in Boundary Bay on the International Boundary through the east tip of Point Roberts in the State of Washington to the East Point Light on Saturna Island in the Province of British Columbia, Canada. All sockeye salmon must be released.

Areas 7 and 7A Reef Net: Open in Areas 7 and 7A south and east of the Iwersen Dock Line from 5 a.m. until 9 p.m. on Saturday, September 13, 2003 and from 6 a.m. until 8 p.m. on Sunday, September 14, from 6 a.m. until 8 p.m. on Monday, September 15, from 6 a.m. until 8 p.m. on Tuesday, September 16, from 6 a.m. until 8 p.m. on Wednesday, September 17, from 6 a.m. until 8 p.m. on Thursday, September 18, and from 6 a.m. until 8 p.m. on Friday, September 19, 2003. The Iwersen Dock Line is a line projected from the point where the Iwersen Dock was once located on Point Roberts in the State of Washington to the Georgina Point Light at the entrance to Active Pass in the Province of British Columbia, Canada. All sockeye salmon must be released.

Inseason Order 2003-14 supersedes all previous inseason orders implementing 2003 orders of the Fraser River Panel.

Order No. 2003-15: Issued 11 a.m., September 19, 2003.

Areas 6, 6A, and 7: Relinquish regulatory control effective 12:01 a.m., Saturday, September 20, 2003.

Area 7A: Relinquish regulatory control in that portion of Area 7A south and east of the Iwersen Dock Line effective 12:01 a.m., Saturday, September 20, 2003. The Iwersen Dock Line is a line projected from the point where the Iwersen Dock was once located on Point Roberts in the State of Washington to the Georgina Point Light at the entrance to Active Pass in the Province of British Columbia, Canada.

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

Moreover, such prior notice and opportunity for public comment is contrary to the public interest because not closing the fishery upon attainment of the quota would allow the quota to be exceeded and thus compromise the conservation objectives established preseason, and it does not allow fishers appropriately controlled access to the available fish at the time they are available.

The AA also finds good cause to waive the 30-day delay in the effective date, required under 5 U.S.C. 553(d)(3), of the inseason orders. A delay in the effective date of the inseason orders would not allow fishers appropriately controlled access to the available fish at that time they are available. This action is authorized by 50 CFR 300.97, and is exempt from review under Executive Order 12866.

Authority: 16 U.S.C. 3636(b).

Dated: October 21, 2003.
Bruce C. Morehead,
Acting Director, Office of Sustainable Fisheries, National Marine Fisheries Service.

[FR Doc. 03-26928 Filed 10-23-03; 8:45 am]

BILLING CODE 3510-22-S